DEPARTMENT OF HOUSING AND URBAN DEVELOPMENT

[Docket No. FR-6534-N-02]

Notice of Regulatory Waiver Requests Granted for the Second Quarter of Calendar Year 2025

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2025 and ending on June 30, 2025.

FOR FURTHER INFORMATION CONTACT: For general information about this notice, contact Amanda Wahlig, Acting Associate General Counsel for Legislation and Regulations, Department of Housing and Urban Development, 451 7th Street SW, Room 10282, Washington, DC 20410-0500, telephone 202-402-3743 (this is not a toll-free number). HUD welcomes and is prepared to receive calls from individuals who are deaf or hard of hearing, as well as individuals with speech and communication disabilities.

To learn more about how to make an accessible telephone call, please visit: https://www.fcc.gov/consumers/guides/telecommunications-relay-service-trs.

For information concerning a particular waiver that was granted and for which public notice is provided in this document, contact the person whose name and address follow the description of the waiver granted in the accompanying list of waivers that have been granted in the second quarter of calendar year 2025.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2025 through June 30, 2025. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2025) before the next report is published (the third quarter of calendar year 2025), HUD will include any additional waivers granted for the second quarter in the next report.

Accordingly, information about approved waiver requests pertaining to HUD regulations is provided in the Appendix that follows this notice.

David C. Woll,
General Counsel.

Appendix

Listing of Waivers of Regulatory Requirements Granted by Offices of the Department of Housing and Urban Development April 1, 2025 Through June 30, 2025

Note to Reader: More information about the granting of these waivers, including a copy of the waiver request and approval, may be obtained by contacting the person whose name is listed as the contact person directly after each set of regulatory waivers granted. The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: Section 104(e)(1) of the Housing and Community Development Act of 1974, as amended (HCDA), 24 CFR 570.902, Section 105(e)(3) of the HCDA and 24 CFR 570.209(b), 24 CFR 570.208(a)(4), 570.506(b)(5)(ii)(c), and 570.506(b)(6)(iii).

Project/Activity: Due to California wildfires and straight-line winds, the City of Los Angeles, California requested statutory suspensions and regulatory waivers related to enforcement of the timeliness requirement, the public benefits standard, and documentation for job creation and retention. The city also requested an extension of existing waivers related to new housing construction, the public services cap, and emergency grant payments.

Nature of Requirement: Section 104(e)(1) of the HCDA and 24 CFR 570.902 require that the grantee carries out its activities in a timely manner and establishes 1.5 as the ratio of grant funds available to the grantee in its line of credit, as measured 60 days prior to the end of the program year. Section 105(e)(3) of the HCDA requires that the public benefit provided by special economic development activities be appropriate relative to the amount of assistance for the activities; 24 CFR 570.209(b) provides the standards that Community Development Block Grant (CDBG) expenditures must have for special economic development activities. 24 CFR 570.208(a)(4), 570.506(b)(5)(ii)(c), and 570.506(b)(6)(iii) requires that low- and moderate-income (LMI) job creation and retention consider family income when determining whether a beneficiary is eligible. Documenting this national objective requires maintaining records showing the beneficiary's family size and income to demonstrate LMI eligibility.

Granted By: David C. Woll, Jr., Principal Deputy Assistant Secretary for Community Planning and Development.

Date Granted: April 21, 2025.

Reason Waived: The California wildfires and straight-line winds disaster caused substantial damage to neighborhoods throughout the city. A Presidentially declared disaster declaration (FEMA-DR-4856-CA), as amended, was issued on January 8, 2025. In response to the disaster, the city requested statutory suspensions and regulatory waivers associated with the CDBG program and an extension of its July 1, 2024 “streamlined waiver” that the Department of Housing and Urban Development (HUD) had already made available to recipients of Community Planning and Development (CPD) grant programs impacted by Presidentially declared major disasters through the Availability of Waivers of Community Planning and Development Grant Program and Consolidated Plan Requirements to Facilitate Recovery from Presidentially Declared Major Disasters memorandum. The waivers granted will allow the City of Los Angeles to expedite recovery efforts for low- and moderate-income residents affected by the disaster, through new housing construction, emergency grant payments, job creation and retention, and additional public and support services for affected individuals and families. The statutory suspensions and regulatory waivers are in effect through June 30, 2025 (enforcement of the CDBG timeliness requirement) and June 30, 2026 (emergency grant payments, public services cap, public benefits standards, new housing construction, and documentation for job retention/job creation).

Contact: James Höemann, Director, Entitlement Communities Division, Community Planning and Development, Department of Housing and Urban Development, 451 7th Street SW, Room 7282, Washington, DC 20410, telephone (202) 402-4548.

• Regulation: Section 104(e)(1) of the Housing and Community Development Act of 1974, as amended (HCDA), 24 CFR 570.902, Section 105(e)(3) of the HCDA and 24 CFR 570.209(b), 24 CFR 570.208(a)(4), 570.506(b)(5)(ii)(c), and 570.506(b)(6)(iii).

Project/Activity: Due to California wildfires and straight-line winds, the County of Los Angeles, California requested statutory suspensions and regulatory waivers related to timeliness, the public benefits standard, and documentation for job creation and retention. The County also requested an extension of existing waivers related to new housing construction, suspension of the public services cap, and emergency grant payments.

Nature of Requirement: Section 104(e)(1) of the Housing and Community Development Act of 1974, as amended (HCDA) and 24 CFR 570.902 require that the grantee carries out its activities in a timely manner and establishes 1.5 as the ratio of grant funds available to the grantee in its line of credit, as measured 60 days prior to the end of the program year. Section 105(e)(3) of the HCDA requires that the public benefit provided by special economic development activities be appropriate relative to the amount of assistance for the activities; 24 CFR 570.209(b) provides the standards that Community Development Block Grant (CDBG) expenditures must have for special economic development activities. 24 CFR 570.208(a)(4), 570.506(b)(5)(ii)(c), and 570.506(b)(6)(iii) requires that low- and moderate-income (LMI) job creation and retention consider family income when determining whether a beneficiary is eligible. Documenting this national objective requires maintaining records showing the beneficiary's family size and income to demonstrate LMI eligibility.

Granted By: David C. Woll, Jr., Principal Deputy Assistant Secretary for Community Planning and Development.

Date Granted: April 4, 2025.

Reason Waived: The California wildfires and straight-line winds disaster caused substantial damage to neighborhoods throughout the county. A Presidentially declared disaster declaration (FEMA-DR-4856-CA), as amended, was issued on January 8, 2025. In response to the disaster, the County of Los Angeles requested statutory suspensions and regulatory waivers associated with the CDBG program and an extension of its July 1, 2024 “streamlined waiver” that the Department of Housing and Urban Development (HUD) had already made available to recipients of Community Planning and Development (CPD) grant programs impacted by Presidentially declared major disasters through the Availability of Waivers of Community Planning and Development Grant Program and Consolidated Plan Requirements to Facilitate Recovery from Presidentially Declared Major Disasters memorandum. The waivers granted will allow the County of Los Angeles to expedite recovery efforts for low- and moderate-income residents affected by the disaster, through new housing construction, emergency grant payments, job creation and retention, and pay for additional public and support services for affected individuals and families. The statutory suspensions and regulatory waivers are in effect through June 30, 2025 (enforcement of the CDBG timeliness requirement), June 30, 2026 (emergency grant payments, public services cap, and public benefits standards), and June 30, 2028 (new housing construction and documentation for job retention/job creation).

Contact: James Höemann, Director, Entitlement Communities Division, Community Planning and Development, Department of Housing and Urban Development, 451 7th Street SW, Room 7282, Washington, DC 20410, telephone (202) 402-4548.

• Regulation: 24 CFR 570.705(f).

Project/Activity: The City of Duluth, Minnesota requested a waiver of the regulation governing loan guarantees under Section 108 of the Housing and Community Development Act, as amended, to extend the maximum repayment term of the guaranteed loan. The original maturity of the guaranteed loan was August 1, 2025, which would have resulted in a repayment period of nineteen years and eleven months. The waiver permitted the extension of the maturity by an additional twelve months to August 1, 2026, that would allow additional time for the City to use sale proceeds from the project property to make a final payment on the Note. The project financed by the guaranteed loan involved the acquisition of real property and the construction of infrastructure for the development of rental housing where no less than 51% of the units are occupied by low- and moderate-income residents.

Nature of Requirement: 24 CFR 570.705(f) states that the term of debt obligations made under 24 CFR 570 subpart M shall not exceed twenty years.

Granted By: David C. Woll Jr., Principal Deputy Assistant Secretary for Community Planning and Development.

Date Granted: June 17, 2025.

Reason Waived: The revenue generated from the sale of the property is the intended source of repayment of the guaranteed loan. Extending the maximum term allows the third-party developer adequate time to secure financing and complete the purchase, which will enable the City of Duluth to make the final payment with non-Federal funds.

Contact: B. Cory Schwartz, Director (Acting), Office of Block Grant Assistance, Office of Community Planning and Development, Department of Housing and Urban Development, 451 7th Street SW, Room 7282, Washington, DC 20410, telephone (202) 402-4105.

Waiver and Alternative Requirement on the Use of CDBG-DR Funds for Buildings for the General Conduct of Government (Lee County Only)

• Regulation: 42 U.S.C. 5305(a)(2) and 24 CFR 570.207(a) (prohibiting the use of Community Development Block Grant Disaster Recovery (CDBG-DR) funds for buildings for the general conduct of government), as incorporated by reference in Section I of the Consolidated Notice (Appendix B to HUD's CDBG-DR notice published in the Federal Register on May 18, 2023, at 88 FR 32046) (the “May 2023 Notice”).

Project/Activity: CDBG-DR funds allocated to Lee County, Florida, pursuant to the Department of Housing and Urban Development (HUD) Appropriations Act, 2023 (Pub. L. 117-328, Division L, Title X) approved December 29, 2022, for major disasters occurring in 2022 (the “Appropriations Act”).

Nature of Requirement: HUD allocated CDBG-DR funds to Lee County, Florida, through the May 2023 Notice. This notice included the Consolidated Notice as Appendix B and made the Consolidated Notice applicable to these allocations. Specifically, HUD received a request from Lee County to waive the prohibition on using CDBG-DR funds for buildings for the general conduct of government as outlined in 42 U.S.C. 5305(a)(2) and 24 CFR 570.207(a). This waiver allows Lee County to use CDBG-DR funds for the construction, reconstruction, and rehabilitation of buildings for the general conduct of government, including when such funds are used as the non-federal match for funds provided through the Federal Emergency Management Agency (FEMA). As an alternative requirement, Lee County is prohibited from using CDBG-DR funds for buildings in which the legislative or general administrative affairs of government are not conducted year-round, or for buildings used exclusively as emergency operations centers.

Granted By: David C. Woll, Jr., Principal Deputy Assistant Secretary.

Date Granted: May 12, 2025.

Reason Waived: After reviewing the grantee's request, HUD determined there was good cause to waive the prohibition on using CDBG-DR funds for buildings for the general conduct of government. This waiver enables Lee County to utilize CDBG-DR funds for essential government infrastructure, facilitating effective disaster recovery and long-term resilience in the most impacted and distressed areas resulting from the 2022 disaster.

Applicability: This waiver is applicable to the CDBG-DR funds awarded to Lee County, Florida, under the Appropriations Act. It permits the use of these funds for the construction, reconstruction, and rehabilitation of buildings for the general conduct of government, including as a non-federal match for FEMA funds, in accordance with the terms, including alternative requirements, specified in the waiver.

Contact: Gerilee Bennett, Acting Director, Office of Disaster Recovery, Office of Community Planning and Development, Department of Housing and Urban Development, 451 7th Street SW, Room 7282, Washington, DC 20410, telephone (202) 708-3587.

Waiver and Alternative Requirement To Extend the Reimbursement Period for Eligible Pre-Application Costs (Volusia County Only)

• Regulation: Paragraph III.F.5 of the Consolidated Notice (Appendix B to HUD's Community Development Block Grant Disaster Recovery (CDBG-DR) notice published in the Federal Register on May 18, 2023, at 88 FR 32046) (the “May 2023 Notice”), as modified by Memorandum 24-02. This waiver modifies the alternative requirement in paragraph III.F.5, which governs the deadline by which grantees may reimburse eligible pre-application costs incurred by homeowners, renters, businesses, and other qualifying entities following a major disaster.

Project/Activity: CDBG-DR funds allocated to Volusia County, Florida, pursuant to the Department of Housing and Urban Development Appropriations Act, 2023 (Pub. L. 117-328, Division L, Title II), for major disasters occurring in 2022 (the “Appropriations Act”).

Nature of Requirement: HUD allocated CDBG-DR funds to Volusia County, Florida, through the May 2023 Notice, which included the Consolidated Notice as Appendix B and made it applicable to these allocations. Paragraph III.F.5 of the Consolidated Notice permits grantees to reimburse eligible pre-application costs incurred by applicants after the disaster incident date and before applying for assistance, subject to a reimbursement deadline of one year after the applicability date of the Allocation Announcement Notice or one year after the disaster date, whichever is later.

In response to a request from Volusia County, HUD previously extended the reimbursement deadline from May 23, 2024, to May 23, 2025 (Memorandum 24-02). Following a subsequent request justified by ongoing outreach efforts and administrative considerations related to recovery from multiple disasters—including Hurricane Milton in 2024—this waiver further extends the reimbursement deadline to October 31, 2025. This extension facilitates greater participation in the Single Family Repair and Replacement Program and supports programmatic consistency and administrative efficiency across recovery efforts for both the 2022 and 2024 disasters.

Granted By: David C. Woll, Jr., Principal Deputy Assistant Secretary.

Date Granted: May 28, 2025.

Reason Waived: After reviewing the grantee's request, HUD determined there is good cause to extend the reimbursement deadline for eligible pre-application costs to October 31, 2025, for Volusia County only. This waiver supports enhanced disaster recovery by allowing additional homeowners and other eligible applicants more time to be reimbursed for disaster-related expenses incurred prior to application submission. The extension aligns recovery efforts across multiple disaster declarations, reducing administrative burden and improving program continuity.

Applicability: This waiver is applicable solely to CDBG-DR funds awarded to Volusia County, Florida, under the Appropriations Act. It extends the reimbursement period for eligible pre-application costs under paragraph III.F.5 of the Consolidated Notice to October 31, 2025, or the date of application, whichever is earlier. The waiver expires on October 31, 2025.

Contact: Gerilee Bennett, Acting Director, Office of Disaster Recovery, Office of Community Planning and Development, Department of Housing and Urban Development, 451 7th Street SW, Room 7282, Washington, DC 20410, telephone number (202) 708-3587.

Waiver and Alternative Requirement To Extend the Reimbursement Period for Eligible Pre-Application Costs and To Expand Eligible Activites (State of Oregon Only)

• Regulation: Paragraphs III.F.5 and II.B.5 of the Consolidated Notice included as Appendix B to HUD's Community Development Block Grant Disaster Recovery (CDBG-DR) notices published in the Federal Register on February 3, 2022, at 87 FR 6364 (the “February 2022 Notice”) and May 24, 2022, at 87 FR 31636 (the “May 2022 Notice”). This waiver modifies the alternative requirement in paragraph III.F.5, which governs both the deadline and types of activities eligible for reimbursement of pre-application costs under CDBG-DR.

Project/Activity: CDBG-DR funds allocated to the State of Oregon pursuant to the Disaster Relief Supplemental Appropriations Act, 2022 (Pub. L. 117-43, Division B), for major disasters occurring in 2020 and 2021 (the “Appropriations Act”).

Nature of Requirement: HUD allocated CDBG-DR funds to the State of Oregon under the February 2022 Notice, which includes the Consolidated Notice as Appendix B. The May 2022 Notice further modified certain requirements contained in the February 2022 Notice.

Paragraph III.F.5 of the Consolidated Notice permits grantees to reimburse pre-application costs incurred by homeowners, renters, businesses, and other qualifying entities, provided such costs were incurred within one year after the applicability date of the Allocation Announcement Notice or the date of the disaster, whichever is later. The same paragraph restricts reimbursement for rehabilitation and reconstruction activities to costs incurred within the footprint of the damaged structure, sidewalk, driveway, parking lot, or other developed areas, and does not include broader homeownership assistance for households displaced to new properties.

In response to a request from the State of Oregon, this waiver (1) extends the reimbursement deadline to January 10, 2025, and (2) expands the range of eligible reimbursable activities to include certain costs incurred outside the original property footprint and homeownership assistance for displaced households.

Granted By: Matthew E. Ammon, Performing the Delegable Duties of the Deputy Secretary.

Date Granted: June 8, 2025.

Reason Waived: After reviewing the grantee's request, HUD determined there is good cause to extend the reimbursement deadline for eligible pre-application costs to January 10, 2025, and to expand the scope of eligible reimbursable activities. The State of Oregon's Homeowner Assistance and Reconstruction Program (HARP) was amended to provide a reimbursement pathway for households who incurred eligible disaster-related costs after the original reimbursement deadline. Many households—particularly low- and moderate-income households—were displaced due to the 2020 wildfires and made significant personal expenditures to secure habitable housing outside the footprint of their damaged properties. These households depleted savings, retirement funds, or assumed debt to repair or acquire new homes. This waiver enables the State to support these residents through reimbursement, increasing access and fairness in the recovery process.

Applicability: This waiver is applicable solely to CDBG-DR funds awarded to the State of Oregon under the Appropriations Act. It extends the reimbursement deadline under paragraph III.F.5 of the Consolidated Notice to January 10, 2025, or the date of application for assistance, whichever is earlier. It also allows reimbursement of: (1) Rehabilitation and reconstruction activities outside the original footprint, where rebuilding on-site is unsafe or impracticable; (2) Homeownership assistance, as defined under 42 U.S.C. 5305(a)(24) and modified by paragraph II.B.5 of the Consolidated Notice, where the displaced household gave up site control prior to January 1, 2024, and now occupies the replacement home. All reimbursed costs must be necessary and reasonable, must not duplicate other benefits, and must comply with the State's most recently approved action plan and applicable policies and procedures.

Contact: Gerilee Bennett, Acting Director, Office of Disaster Recovery, Office of Community Planning and Development, Department of Housing and Urban Development, 451 7th Street SW, Room 7282, Washington, DC 20410, telephone number (202) 708-3587.

• Regulation: 24 CFR 93.400(d)(2).

Project/Activity: The State of Ohio requested a waiver of 24 CFR 93.400(d)(2) to extend the expenditure deadline for its Fiscal Year 2020 Housing Trust Fund (HTF) grant funds committed to the Wintergreen Ledges project, a 120-unit affordable rental housing development in Akron, Ohio.

Nature of Requirement: The regulation at 24 CFR 93.400(d)(2) requires HUD to reduce or recapture any funds in the grantee's HTF Treasury account that are not expended within five years after HUD executed the grantee's HTF grant agreement.

Granted by: David C. Woll, Jr., Principal Deputy Assistant Secretary for Community Planning and Development.

Date Granted: May 6, 2025.

Reason Waived: Department determined that a waiver of the State's FY 2020 expenditure requirement is justified because the project experienced delays related to the insolvency of the original general contractor, which resulted in the substitution of a new general contractor and an updated construction schedule. This waiver will enable the State to retain HTF funds committed to the Wintergreen Ledges project and prevent the potential loss of affordable units.

Contact: Peter Huber, Acting Director, Office of Affordable Housing Programs, Office of Community Planning and Development, Department of Housing and Urban Development, 451 7th Street SW, Room 7282, Washington, DC 20410, email peter.h.huber@hud.gov, telephone (202) 402-3941.

• Regulation: 24 CFR 93.400(d)(2).

Project/Activity: The State of Alabama requested a waiver of 24 CFR 93.400(d)(2) to extend the expenditure deadline for its Fiscal Year 2019 Housing Trust Fund (HTF) grant funds committed to the Oakleigh Crossing project.

Nature of Requirement: The regulation at 24 CFR 93.400(d)(2) requires HUD to reduce or recapture any funds in the grantee's HTF Treasury account that are not expended within five years after HUD executed the grantee's HTF grant agreement.

Granted by: David C. Woll, Jr., Principal Deputy Assistant Secretary for Community Planning and Development.

Date Granted: May 6, 2025.

Reason Waived: The Department determined that a waiver of the State's FY 2019 expenditure requirement is justified due to Pandemic-related supply chain disruptions, material and labor shortages, and cost increases; and delays caused by issues with the original contractor and syndication negotiations. This waiver will enable the State to retain HTF funds committed to the Oakleigh Crossing project and prevent the potential loss of affordable units and displacement of in-place tenants.

Contact: Peter Huber, Acting Director, Office of Affordable Housing Programs, Office of Community Planning and Development, Department of Housing and Urban Development, 451 7th Street SW, Room 7282, Washington, DC 20410, email peter.h.huber@hud.gov, telephone (202) 402-3941.

• Regulation: 24 CFR 93.400(d)(2).

Project/Activity: The State of Ohio requested a waiver of 24 CFR 93.400(d)(2) to extend the expenditure deadline for its Fiscal Year 2021 grant funds which are committed to The Meadows project.

Nature of Requirement: The regulation at 24 CFR 93.400(d)(2) requires HUD to reduce or recapture any funds in the grantee's HTF Treasury account that are not expended within five years after HUD executed the grantee's HTF grant agreement.

Granted by: David C. Woll, Jr., Principal Deputy Assistant Secretary for Community Planning and Development.

Date Granted: June 9, 2025.

Reason Waived: The Department determined that a waiver of the State's FY 2021 expenditure requirement is justified because the Meadows project was delayed due to the HUD Part 58 environmental review required by other funding sources in the project and the State's policy to hold 10 percent of funds in retainage until construction completion. This waiver will permit the State to retain HTF funds committed to the Meadows project and prevent the potential loss of affordable units.

Contact: Peter Huber, Acting Director, Office of Affordable Housing Programs, Office of Community Planning and Development, Department of Housing and Urban Development, 451 7th Street SW, Room 7282, Washington, DC 20410, email peter.h.huber@hud.gov, telephone (202) 402-3941.

• Regulation: 24 CFR 93.400(d)(2).

Project/Activity: The State of Texas requested a waiver of 24 CFR 93.400(d)(2) to extend the expenditure deadline for its Fiscal Year 2021 grant funds committed to the Boulevard 61 project.

Nature of Requirement: The regulation at 24 CFR 93.400(d)(2) requires HUD to reduce or recapture any funds in the grantee's HTF Treasury account that are not expended within five years after HUD executed the grantee's HTF grant agreement.

Granted by: David C. Woll, Jr., Principal Deputy Assistant Secretary for Community Planning and Development.

Date Granted: June 17, 2025.

Reason Waived: The Department determined that a waiver of the State's FY 2021 HTF expenditure requirement is justified because the Boulevard 61 project was delayed due to a temporary gap in funding from significant increases in insurance, interest, and construction costs. This waiver will enable the State to retain HTF funds committed to the Boulevard 61 project and prevent the potential loss of affordable units.

Contact: Peter Huber, Acting Director, Office of Affordable Housing Programs, Office of Community Planning and Development, Department of Housing and Urban Development, 451 7th Street SW, Room 7282, Washington, DC 20410, email peter.h.huber@hud.gov, telephone (202) 402-3941.

II. Regulatory Waivers Granted by the Office of Housing

For further information about the following regulatory waivers, please see the name of the contact person that immediately follows the description of the waiver granted.

Regulation: 24 CFR part 891.165(a), which limits the duration of a fund reservation to up to 36 months.

Project/Activity: Waiver of required to allow Eastern West Virginia Community Action Agency (the Sponsor) enough time to obtain the necessary external approvals for HUD's initial closing for Moorefield Place Senior Homes. Nature of Requirement: Section 24 CFR part 891.165(a) limits the duration of a fund reservation to up to 36 months. “The duration of the fund reservation for a capital advance with construction advances is 24 months from the date of issuance of the award letter to the date of initial closing. This duration can be up to 36 months, as approved by HUD on a case-by-case basis.”

Granted by: Frank Cassidy, Principal Deputy Assistant Secretary for Housing.

Date Granted: June 18, 2025.

Reason Waived: The Multifamily Northeast Regional Center's Underwriting Division submitted the waiver request with its recommendation of approval to HUD's Office of Housing on January 15, 2025. A loss of a funding source is the reason cited for the delay in the project reaching initial closing. The Sponsor has secured the $1,500,000 lost funding as a grant from the Federal Home Loan Bank. The project also has 9% Competitive Low Income Housing Tax Credits (LIHTC) reserved from the West Virginia Housing Development Fund. HUD has learned the project is in danger of losing their LIHTC credits if this waiver is not approved. The Northeast Regional Center's Underwriting Division recommends approval of the waiver because the Sponsor has 2 secured additional funding and displayed a sincere commitment to the development of the project.

Contact: Shalonda Kelly, Program Analyst, Office of Assisted Housing Oversight, Grants and New Funding, Office of Housing, Department of Housing and Urban Development, 451 7th Street SW, Washington, DC 20410, email Shalonda.M.Kelly@hud.gov, telephone (202) 402-5028.

• Regulation: 24 CFR 242.16(a)(3)(vi)(B).

Project/Activity: St. Barnabas Hospital, FHA# 012-22502, New York, New York Nature of Requirement: OHF requires Lenders seeking Section 223(f)/242 refinancings to demonstrate that the proposed Borrower's financial performance would be materially improved by the refinancing. The aforementioned Regulation includes seven specific indicators (Refinancing Criteria) that the Lender must use to demonstrate that the refinancing will materially improve the Borrower's financial performance. In order for the proposal to be eligible for refinancing under the Section 223(f)/242 program, the Lender must certify that no less than three of seven of the Refinancing Criteria are met. Despite the fact that St. Barnabas Hospital has an indisputable need to refinance its debt, the Hospital only met one of the seven criteria.

Granted by: Matthew E. Ammon, Performing the Delegable Duties of the Deputy Secretary.

Date Granted: April 10, 2025.

Reason Waived: Without a refinancing (which would result in monthly debt service of under $400,000) monthly debt service will increase to over $1M. While the Hospital's financial performance will be improved by a Section 223(f)/242 refinancing, this need is not adequately captured by the seven Refinancing Criteria in the Regulation.

Contact: Paul Giaudrone, Underwriting Director, Office of Healthcare Programs, Office of Housing, Department of Housing and Urban Development, 451 7th Street SW, Washington, DC 20410, telephone (202) 402-5684.

III. Regulatory Waivers Granted by the Office of Public and Indian Housing

For further information about the following regulatory waivers, please see the name of the contact person that immediately follows the description of the waiver granted.

• Regulation: 24 CFR 5.801(d)(1), 24 CFR 902.62(a)(3).

Nature of Requirement: 24 CFR 5.801(d)(1) pertains to reporting requirement dates for specific PHAs. 24 CFR 902.62(a)(3) pertains to the date a PHA's audited financial statement must be received.

Project/Activity: Trumbull Metropolitan Housing Authority (TMHA).

Granted By: Benjamin Hobbs, Principal Deputy Assistant Secretary for Public and Indian Housing.

Date Granted: April 18, 2025.

Reason Waived: HUD grants the waivers on the basis of good cause, citing TMHA's provided reason that the Ohio Auditor of State office cannot commence the audit in a timely manner.

Contact: Lara Philbert, Assessment Manager, Integrated Assessment Division, Office of Public and Indian Housing, Department of Housing and Urban Development, 451 7th Street SW, Washington, DC 20410, email lara.philbert@hud.gov, telephone (202) 475-8930.

• Regulation: Section 9(g)(1) of the U.S. Housing Act of 1937.

Nature of Requirement: Section 9(g)(1) of the U.S. Housing Act of 1937 pertains to the use of funds, specifically, the flexibility in use of funds.

Project/Activity: Westmoreland County Housing Authority (WCHA).

Granted By: Benjamin Hobbs, Principal Deputy Assistant Secretary for Public and Indian Housing.

Date Granted: April 17, 2025.

Reason Waived: HUD grants the waivers on the basis of good cause, citing WCHA's provided reasons of wanting to use Capital Funds for anticrime and antidrug activities (for which the required HUD authorization) and providing local crime data and projections to support such a need.

Contact: David Fleischman, Director in HUD's Capital Program Division, Office of Public and Indian Housing, Department of Housing and Urban Development, 451 7th Street SW, Room, Washington, DC 20410, email David.Fleischman@hud.gov, telephone (202) 402-2071.

• Regulation: 24 CFR 965 Subpart B.

Nature of Requirement: 24 CFR 965 Subpart B pertains to required insurance coverage for PHAs under the Annual Contributions Contract (ACC).

Project/Activity: Housing Authority of the Birmingham District (HABD).

Granted By: Benjamin Hobbs, Principal Deputy Assistant Secretary for Public and Indian Housing.

Date Granted: April 24, 2025.

Reason Waived: HUD grants the waiver on the basis of good cause, citing HABD's provided reasons, which include:

○ On September 2, 2019, the Special Application Center (SAC) issued correspondence to the HABD approving its DDA0008489 application for the demolition of 54 dwelling buildings containing 202 dwelling units and 2 non-dwelling units (the property) under the Charles P. Marks Village (AL001000006) in HUD's Inventory Management System/Public and Indian Housing Information Center (IMS/PIC) system.

○ On June 6, 2024, HABD submitted a letter to HUD's Birmingham Field Office per the guidelines in Notice PIH 2018-16, Regulatory Waivers, formally requesting to use the authority at 24 CFR 5.110 to waive 24 CFR 965.205 and the mandatory insurance coverage requirement for replacement cost property insurance, for 204 vacant units at Charles P. Marks Village (AL001000006). In the letter, HABD also cited the following reasons for the delayed demolition since the approved SAC application in 2019: the onset of the COVID-19 pandemic and staffing/leadership turnover.

○ The letter stated that HABD will maintain commercial general liability insurance on the units if a claim is made against the agency. Lastly, the letter stated that approving this request will improve the Asset Management Project's (AMP) fiscal position resulting in a more efficient allocation of the operating subsidy for the property.

○ On July 3, 2024, the Region IV Birmingham Office Director forwarded the HABD's request and supporting documentation in accordance with Notice PIH 2018-16, Regulatory Waivers, and its assessment of the request to the General Deputy Assistant Secretary for PIH approval.

Similarly, HUD waives any contractual requirement found in the ACC that would obligate HABD to purchase or maintain replacement value property insurance for Charles P. Marks Village; specifically, any and all projects approved for demolition by HUD located in Charles P. Marks Village.

Contact: Kevin J. Gallagher, Public Housing Financial Management Division Director, Office of Public and Indian Housing, Department of Housing and Urban, 451 7th Street SW, Room, Washington, DC 20410, email Kevin.J.Gallagher@hud.gov, telephone (202) 402-4192.

• Regulation: Section 9(g)(1) of the U.S. Housing Act of 1937.

Nature of Requirement: Section 9(g)(1) of the U.S. Housing Act of 1937 pertains to the use of funds, specifically, the flexibility in use of funds.

Project/Activity: St. Louis Housing Authority (SLHA).

Granted By: Benjamin Hobbs, Principal Deputy Assistant Secretary for Public and Indian Housing.

Date Granted: April 24, 2025.

Reason Waived: HUD grants the waivers on the basis of good cause, citing SLHA's provided reasons of wanting to use Capital Funds for anticrime and antidrug activities (for which the required HUD authorization) and providing local crime data and projections to support such a need.

Contact: David Fleischman, Director in HUD's Capital Program Division, Office of Public and Indian Housing, 451 7th Street SW, Room, Washington, DC 20410, email David.Fleischman@hud.gov, telephone (202) 402-2071.

• Regulation: 2 CFR 200.313(e)(2).

Nature of Requirement: 2 CFR 200.313(e)(2) pertains to equipment acquired under a Federal award, including its title, use, management requirements, disposition, and retention.

Project/Activity: Oconto Housing Authority (OHA).

Granted By: Benjamin Hobbs, Principal Deputy Assistant Secretary for Public and Indian Housing.

Date Granted: May 7, 2025.

Reason Waived: HUD grants the waiver on the basis of good cause, citing OHA's reasons as provided:

○ Following the property conversion under RAD/Section 18, OHA sold the snowplow truck purchased with LRPH funds, for $24,000.

○ OHA requests “an exception to 2 CFR 200.314, which requires compensation to HUD for the sale of any residual inventory of unused supplies exceeding $5,000 in total aggregate value.” (The latest amendment to 2 CFR part 200 increased the threshold from $5,000 to $10,000.)

○ OHA states that the proceeds from the sale of the snowplow truck will be used to fulfill its obligation to close out the Public Housing Annual Contributions Contract and ensure that all housing authority obligations and commitments are resolved.

○ OHA outlines that their remaining ACC activities are a final LRPH audit, closeout of LRPH grants, and obtaining several legal opinions to ensure all the OHA's housing authority obligations and commitments are resolved.

○ OHA contends that there are not any remaining LPRH funds to complete the Public Housing Annual Contributions Contract Obligations, which is why they are requesting this exemption.

Contact: Kevin J. Gallagher, Public Housing Financial Management Division Director, Office of Public and Indian Housing, Department of Housing and Urban, 451 7th Street SW, Room, Washington, DC 20410, email Kevin.J.Gallagher@hud.gov, telephone (202) 402-4192.

• Regulation: PIH Notice 2018-1, Section 9: Guidance on Small Area Market Rent (SAFMR) and Payment Standard.

Project/Activity: Regulatory Waivers and Administrative Flexibilities During a Presidentially Declared Disaster, for Public Housing Agencies During CY 2024 and CY 2025 FR-6438-N-01 (February 5, 2024).

Nature of Requirement: PHAs may request a suspension or temporary exemption from using SAFMRs. A PDD PHA can request a suspension or temporary exemption from the requirement to use SAFMRs, and HUD can provide such an extension, through this waiver process rather than following the requirements and process outlined in PIH Notice 2018-1, which would normally be required.

Reason Waived: This waiver is to temporarily exempt the PHA from implementing SAFMRs will allow the PHA to prioritize recovery efforts and allow for the housing market to stabilize before the PHAs can adequately assess and apply SAFMRs when fluctuating rental prices and lack of supply stabilized.

Granted by: Benjamin Hobbs, Principal Deputy Assistant Secretary for Public and Indian Housing.

Contact: Tesia Anyanaso, Office of Field Operations/Coordination and Compliance Division, Office of Public and Indian Housing, 451 Seventh St. SW, Suite 3180, Washington, DC 20410, or email to PIH_Disaster_Relief@hud.gov.

Code | PHAs | Waiver signed
CA004 | HACLA | 5/21/2025

[FR Doc. 2026-01781 Filed 1-28-26; 8:45 am]

BILLING CODE 4210-67-P